DEPARTMENT OF ENERGY

Federal Energy Regulatory Commission

[Docket No. EG02-178-000, et al.]

Orion Power New York GP II, Inc., et al.; Electric Rate and Corporate Regulation Filings

August 12, 2002.

The following filings have been made with the Commission. The filings are listed in ascending order within each docket classification.

1. Orion Power New York GP II, Inc.

[Docket No. EG02-178-000]

Take notice that on August 7, 2002, Orion Power New York GP II, Inc., (OPNY) tendered for filing an application for a determination of exempt wholesale generator status, pursuant to Section 32(a)(1) of the Public Utility Holding Company Act of 1935, as amended, (PUHCA), 15 U.S.C. 79z-5a (1994), and Subchapter T, part 365 of the regulations of the Federal Energy Regulatory Commission (Commission), 18 CFR part 365.

OPNY is a Delaware Corporation and owns and operates a generation facility in St Lawrence County, New York.

Comment Date: September 3, 2002.

2. Otter Tail Power Company

[Docket Nos. ER02-912-000, ER02-912-001, ER02-1728-000, ER02-1729-000, ER02-1730-000, and ER02-1732-000]

Take notice that on August 5, 2002, Otter Tail Power Company (Otter Tail) filed a revised service agreement in compliance with the July 5, 2002 Federal Energy Regulatory Commission Order. The proposed service agreement for East Grand Forks concerning Schedules 1, 3A, and 4A are to reflect that they are not required services.

Comment Date: August 26, 2002.

3. Duke Energy Grays Harbor, LLC

[Docket No. ER02-2426-000]

Take notice that on August 7, 2002, Duke Energy Grays Harbor, LLC (Duke Grays Harbor) tendered for filing pursuant to Section 205 of the Federal Power Act its proposed FERC Electric Tariff No. 1.

Duke Grays Harbor seeks authority to sell energy and capacity, as well as ancillary services, at market-based rates, together with certain waivers and preapprovals. Duke Grays Harbor also seeks authority to sell, assign, or transfer transmission rights that it may acquire in the course of its marketing activities. Duke Grays Harbor seeks an effective date 60 days from the date of filing of its proposed rate tariff.

Comment Date: August 28, 2002.

4. California Independent System Operator Corporation

[Docket No. ER02-2427-000]

Take notice that on August 7, 2002, the California Independent System Operator Corporation (ISO) tendered for filing Second Revised Service Agreement No. 429 under ISO Rate Schedule No. 1, which is a Participating Generator Agreement (PGA) between the ISO and Delta Energy Center, LLC (Delta). The ISO has revised the PGA to update Original Volume No. 1 of the PGA. The ISO requests that the revised PGA be made effective as of February 8, 2002.

The ISO states that this filing has been served on all entities that are on the official service list for [Docket No. ER02-1224-000].

Comment Date: August 28, 2002.

5. California Independent System Operator Corporation

[Docket No. ER02-2428-000]

Take notice that on August 7, 2002, the California Independent System Operator Corporation (ISO) tendered for filing Second Revised Service Agreement No. 235 under FERC Electric Tariff, Original Volume No. 1, which is a Participating Generator Agreement (PGA) between the ISO and Mountainview Power Company (Mountainview). The ISO has revised the PGA to update Original Volume No. 1 of the PGA. The ISO requests that the revised PGA be made effective as of May 7, 1999.

The ISO has revised the PGA to update Original Volume No. 1 of the PGA. The ISO requests that the revised PGA be made effective as of May 7, 1999.

The ISO states that this filing has been served on all entities that are on the official service list for [Docket No. ER99-2990-000.

Comment Date: August 28, 2002.

6. California Independent System Operator Corporation

[Docket No. ER02-2429-000]

Take notice that on August 7, 2002, the California Independent System Operator Corporation (ISO) tendered for filing Second Revised Service Agreement No. 233 under FERC Electric Tariff, Original Volume No. 1, which is a Participating Generator Agreement (PGA) between the ISO and Riverside Canal Power Company (Riverside). The ISO has revised the PGA to update Original Volume No. 1 of the PGA. The ISO requests that the revised PGA be made effective as of May 7, 1999.

The ISO states that this filing has been served on all entities that are on the official service list for [Docket No. ER99-2988-000].

Comment Date: August 28, 2002.

7. California Independent System Operator Corporation

[Docket No. ER02-2430-000]

Take notice that on August 7, 2002, the California Independent System Operator Corporation (ISO) tendered for filing Fifth Revised Service Agreement No. 29 under FERC Electric Tariff, Original Volume No. 1, which is a Participating Generator Agreement (PGA) between the ISO and Southern California Edison Company (Edison). The ISO has revised the PGA to update Original Volume No. 1 of the PGA. The ISO requests that the revised PGA be made effective as of December 5, 1997.

The ISO states that this filing has been served on all entities that are on the official service list for [Docket No. ER02-532-000.

Comment Date: August 28, 2002.

8. El Paso Electric Company

[Docket No. ER02-2431-000]

Take notice that on August 7, 2002, El Paso Electric Company (EPE) tendered for filing a Notice of Cancellation of its Rate Schedule No. 56, which governs cost-based sales of partial requirements energy to Imperial Irrigation District. EPE requests an effective date of August 8, 2002, for the cancellation.

Comment Date: August 28, 2002.

9. PJM Interconnection, L.L.C.

[Docket No. ER02-2432-000]

Take notice that on August 7, 2002, PJM Interconnection, L.L.C. (PJM), submitted for filing with the Federal Energy Regulatory Commission (Commission) an executed interim interconnection service agreement and an executed interconnection service agreement between PJM and PPL Montour, L.L.C.

PJM requests a waiver of the Commission's 60-day notice requirement to permit the effective dates agreed to by the parties. Copies of this filing were served upon each of the parties to the agreements and the state regulatory commissions within the PJM region.

Comment Date: August 28, 2002.

10. Puget Sound Energy, Inc.

[Docket No. ER02-2433-000]

Take notice that on August 7, 2002, Puget Sound Energy, Inc. tendered for filing an Interconnection Agreement with The City of Ellensburg (the City). A copy of the filing was served upon the City.

Comment Date: August 28, 2002.

11. Genstar Energy L.L.C.

[Docket No. ER02-2434-000]

Take notice that on August 5, 2002, Genstar Energy, L.L.C. (Genstar) requests the Federal Energy Regulatory Commission terminate without prejudice to refile at a later date Genstar's Rate Schedule No. 1 which was accepted for filing on May 27, 1999 in Docket No. ER99-2364-000.

Comment Date: August 26, 2002.

12. Orion New York GP II, Inc.

[Docket No. ER02-2435-000]

Take notice that on August 7, 2002, Orion New York GP II, Inc. (OPNY) tendered for filing pursuant to Rule 205 of the Federal Energy Regulatory Commission's (Commission) Rules of Practice and Procedure, 18 CFR 385.205, a petition for waivers and blanket approvals under various regulations of the Commission and for an order accepting its FERC Electric Rate Schedule No. 1 authorizing OPNY to make sales at market-based rates. OPNY has requested this rate schedule become effective on October 7, 2002.

OPNY intends to sell electric power at wholesale. In transactions where OPNY sells electric energy, it proposes to make such sales on rates, terms, and conditions to be mutually agreed to with the purchasing party. OPNY's Rate Schedule provides for the sale of energy and capacity at agreed prices.

Comment Date: August 28, 2002.

13. Mid-Continent Area Power Pool

[Docket No. ER02-2436-000]

Take notice that on August 8, 2002, the Mid-Continent Area Power Pool (MAPP), tendered for filing six copies of two amendments to the MAPP Restated Agreement that propose to eliminate the term restrictions that limit service on the MAPP Executive Committee and Regional Reliability Committee.

Comment Date: August 29, 2002.

14. Old Dominion Electric Cooperative

[Docket No. ES02-50-000]

Take notice that on August 5, 2002, Old Dominion Electric Cooperative (Old Dominion) submitted an application pursuant to section 204 of the Federal Power Act seeking authorization to (1) issue up to and including $700 million aggregate principal amount in long-term debt securities, and (2) execute up to and including $700 million aggregate principal amount in related swap agreements.

Old Dominion also requests waiver of the competitive bidding and negotiated placement requirements at 18 CFR 34.2.

Comment Date: August 30, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Linwood A. Watson, Jr.,
Deputy Secretary.

[FR Doc. 02-21033 Filed 8-19-02; 8:45 am]

BILLING CODE 6717-01-P